DEPARTMENT OF TRANSPORTATION

Notice of Applications for Certificates of Public Convenience and Necessity and Foreign Air Carrier Permits Filed Under Subpart B (Formerly Subpart Q) During the Week Ending October 27, 2006

The following Applications for Certificates of Public Convenience and Necessity and Foreign Air Carrier Permits were filed under Subpart B (formerly Subpart Q) of the Department of Transportation's Procedural Regulations (see 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2006-26200.

Date Filed: October 25, 2006.

Due Date for Answers, Conforming Applications, or Motion to Modify Scope: November 15, 2006.

Description: Application of Global Jet Luxembourg, S.A., requesting a foreign air carrier permit to engage in charter foreign air transportation of persons and property between any point or points in Luxembourg and any point or points in the United States, either directly or via intermediate points in other countries, with or without stopovers, and beyond, coextensive with the rights provided under the U.S.-Luxembourg Air Transport Agreement and Fifth Freedom charter service pursuant to the prior approval requirements set forth in Part 212 of the Department's Regulations.

Docket Number: OST-2006-26199.

Date Filed: October 25, 2006.

Due Date for Answers, Conforming Applications, or Motion to Modify Scope: November 15, 2006.

Description: Application of Global Jet Austria GmbH, requesting a foreign air carrier permit to engage in charter foreign air transportation of persons and property between any point or points in Austria and any point or points in the United States, either directly or via intermediate points in other countries, with or without stopovers, and beyond, coextensive with the rights provided under the U.S.-Austria Air Services Agreement and Fifth Freedom charter service pursuant to the prior approval requirements set forth in Part 212 of the Department's Economic Regulations.

Renee V. Wright,
Program Manager, Docket Operations. Federal Register Liaison.

[FR Doc. E6-20235 Filed 11-28-06; 8:45 am]

BILLING CODE 4910-9X-P